DEPARTMENT OF COMMERCE

International Trade Administration

Secretarial Infrastructure Business Development Mission to the United Arab Emirates, the Kingdom of Saudi Arabia and Qatar

March 8-14, 2014.

AGENCY: International Trade Administration, Department of Commerce.

ACTION: Notice.

Mission Description

The United States Secretary of Commerce will lead an Infrastructure Business Development Mission to the United Arab Emirates, the Kingdom of Saudi Arabia and Qatar from March 8-14, 2014. This business development mission will promote U.S. exports to the Gulf region by helping U.S. companies launch or increase their business in the infrastructure sector. The mission will include government and business-to-business meetings, market briefings and networking events. In all three countries, the governments and private sector are investing significant money in infrastructure projects. As a result, the mission will focus on export-ready U.S. firms with product and services in a broad range of leading U.S. infrastructure sectors with an emphasis on project management and engineering (including construction, architecture and design), renewable energy (solar, wind, waste-to-energy), smart grid and energy efficiency, and environmental technologies (including water/wastewater; air pollution control; and waste management).

The mission will stop in the United Arab Emirates, the Kingdom of Saudi Arabia and Qatar. In each country, participants will meet with pre-screened potential agents, distributors, and representatives, as well as other business partners and government officials. They will also attend market briefings by U.S. Embassy officials, as well as networking events offering further opportunities to speak with local business and industry decision-makers.

The delegation will be composed of representatives from 20-25 U.S. firms in the mission's target sectors. Representatives of the Export-Import Bank of the United States (Ex-Im) and the Overseas Private Investment Corporation (OPIC) will be invited to participate to provide information and counseling regarding their suite of programs, services, and interests in the Middle East.

Commercial Setting

The United Arab Emirates

The US-UAE trade relationship is undergoing a period of rapid expansion as the UAE seeks to undertake major investment in its infrastructure and transport systems. U.S. exports to the UAE totaled almost $23 billion in 2012. U.S. exports to the UAE increased by 36% in 2011, 42% in 2012 and are poised to grow an additional 15% in 2013. Key market opportunities for U.S. firms will continue to be present in project management and design work on urban transport, rail, oil & gas and power generation (including alternative energy). Demand for imports is being fueled by economic growth rates of 3-4%, and bolstered by strong oil revenues as the UAE implements a one-third increase in its petroleum production.

In addition to accounting for virtually all UAE oil production and defense sector acquisitions, the Emirate of Abu Dhabi is also moving forward to develop a $10 billion urban transit system, a national railroad network and a nuclear energy industry. Dubai continues to expand its role as the major regional trade hub and has begun development of one the world's largest new airport projects. On November 27, 2013, the Emirate won the award to host the 2020 World Expo which will result in the undertaking of major infrastructure and hospitality development.

Specific projects in these sectors include an urban transit project in Abu Dhabi (light rail and below ground subway); development of the Etihad Rail network to link the UAE's major ports and cities; development of Dubai's new Al Maktoum airport and adjacent logistics, commercial, residential and recreational sites; and the anticipated design and construction of over 100 new hotels and multiple venues for the 2020 World Expo with an estimated project value of $40 billion.

Additionally, there are many major clean energy opportunities for U.S. firms. Dubai plans to develop a 1,000 mw solar energy capacity and Abu Dhabi continues plans to create a nuclear power industry.

Kingdom of Saudi Arabia

Saudi Arabia is the 9th largest trading partner of the United States with a bilateral trade of $74 billion in 2012 and is also the 20th largest destination for U.S. exports. In 2012, U.S. exports to Saudi Arabia exceeded $18 billion mark, an increase of 31% from 2011. The Saudi economy—the largest in the Middle East and North Africa region—has been growing at a robust pace. The private sector has been the key driver behind the stronger non-oil sector growth, with an annual growth rate close to 7 percent since 2000. The private sector is expected to continue to be a key driver of non-oil growth. The country has benefited enormously from oil and gas reserves that have generated vast financial liquidity in the six years between 2006 and 2012. As a result, there are currently about $960 billion worth of projects planned or under way in Saudi Arabia. Of these, more than $700 billion are megaprojects, or large master planned developments of more than $1 billion, making Saudi Arabia the biggest opportunity in the region for businesses involved in the infrastructure and construction sectors. The revenues from hydrocarbon resources are expected to be sufficient to support planned development spending and support private sector growth. The FY-2013 budget, the largest in Saudi history, projected spending of $221 billion.

Significant opportunities exist for U.S. companies interested in Saudi Arabia's construction project management, architectural, engineering and design, and renewable energy sectors. The King Abdullah City for Atomic and Renewable Energy has a stated goal to spend more than $150 billion to develop renewable energy capabilities, specifically solar, to reduce the country's reliance on burning oil for domestic power generation. The $22.5 billion Riyadh Metro, along with rail schemes in Mecca, Jeddah, Medina and Dammam, promises to transform transport infrastructure. The King Abdullah and Jizan Economic Cities are in the process of creating new industrial clusters and new communities. The government is committed to continue to spend heavily in the education, health, municipality, transportation and water sectors. Some of the anticipated capital expenditures for 2014 include the construction of new schools, hospitals, and roads across the country. Urbanization and population growth in Saudi Arabia have boosted demand for housing, especially affordable housing. The Saudi Government remains committed to building 500,000 houses over the next five years. Likewise, demand for power generation will continue to climb over the next five years on the back of a rapidly growing population, and resulting high investments in social and physical infrastructure.

Qatar

The U.S.-Qatar trade relationship is going through a massive transformation. The United States posted a trade surplus with Qatar of $2.6 billion from January 2013-August 2013. Total U.S. exports to Qatar through August 2013, were $3.6 billion establishing a new record and growing 106% compared year-on-year with January through August 2012. (The previous yearly record for U.S. exports to Qatar was $3.57 billion in 2012). Given this trend, U.S. exports to Qatar are poised to break the $5 billion dollar level in 2013. Despite Qatar's small population (Qatar is a country of only two million people and only 250,000 Qatari citizens) it ranks as the fifth largest U.S. export market in the MENA region, only behind the much larger markets of the UAE, the Kingdom of Saudi Arabia, Israel and Egypt. Over the past 10 years U.S. exports to Qatar have grown by over 700%.

With Qatar's 2030 Vision, which establishes a framework for Qatar to transform itself from a carbon-based economy, combined with Qatar hosting the 2022 FIFA World Cup, Qatar plans to spend over $250 billion on physical infrastructure over the next five years. Opportunities include: The new Hamad International Airport—$25 billion for completion of the first phase and the $10 billion dollar Phase II; the New Doha Port which is the world's largest green-field port construction project valued at $8 billion (commercial and naval port); QRail is embarking on a $40 billion dollar rail construction project creating three new subway lines, three above ground Light Rail Systems and a high-speed rail network, with heavy freight to follow after 2022; the Public Works Authority is spending $40 billion on new road projects (converting from European systems to U.S.-based designs) as well as public buildings such as schools and hospitals; and the Qatar 2022 Supreme Committee will supervise the construction of 9-12 stadiums for the 2022 World Cup valued at $5 billion. These projects provide on-going opportunities for U.S. engineering and design firms.

Another key program is the $4 billion dollar Inner Doha Re-sewerage Implementation Strategy (IDRIS). This scheme will include a major deep tunnel sewer network and advanced sewage treatment works. Renewable energy is a priority and Qatar is heavily investing in solar energy.

Products and Services Outside of the Scope of the Mission

The foregoing analysis of infrastructure export opportunities is not intended to be exhaustive, but illustrative of the many opportunities available to U.S. businesses in the United Arab Emirates, the Kingdom of Saudi Arabia and Qatar. Applications from companies selling products or services within the scope of this mission will be considered and evaluated by the U.S. Department of Commerce. Companies whose products or services do not fit the scope of the mission may contact their local U.S. Export Assistance Center (USEAC) to learn about other business development missions and export promotion services that may provide more targeted export opportunities. Companies may call 1-800-872-8723, or visit the Web site: http://www.export.gov to obtain such information.

Mission Goals

This mission will demonstrate the United States' commitment to a sustained economic partnership in the Gulf region. The mission's purpose is to support the business development goals of U.S. firms as they construct a firm foundation for future business in the United Arab Emirates, the Kingdom of Saudi Arabia and Qatar, and specifically aims to:

• Assist in identifying potential partners and strategies for U.S. companies to gain access to each market for infrastructure products and services.

• Confirm U.S. Government support for activities of U.S. business in each market and to provide access to senior decision makers in the United Arab Emirates, the Kingdom of Saudi Arabia and Qatar government.

• Listen to the needs, suggestions and experience of individual participants so as to shape appropriate U.S. Government positions regarding U.S. business interests in the region.

• Organize private and focused events with local business and association leaders capable of becoming partners and clients for U.S. firms as they develop their business in the region.

• Assist in the development of competitive strategies and increasing market access through high level information gathering from private and public-sector leaders.

Mission Scenario

The mission will stop in the United Arab Emirates, the Kingdom of Saudi Arabia and Qatar. In each country, participants will meet with pre-screened potential agents, distributors, and representatives, as well as other business partners and government officials. They will also attend market briefings by U.S. Embassy officials, as well as networking events offering further opportunities to speak with local business and industry decision-makers.

Proposed Time Table
Saturday, March 8 | Abu Dhabi, United Arab Emirates | Business Development Mission Orientation. U.S. Government Trade Finance Briefing.
|  | Commercial Opportunity Overview.
|  | Country Team Briefing.
|  | Welcome Dinner.
Sunday, March 9 | Abu Dhabi, United Arab Emirates | Industry Briefings/Roundtable Discussions. One-on-One Business Appointments.
|  | Networking Luncheon.
|  | Networking Reception.
Monday, March 10 | Dubai, United Arab Emirates | Travel to Dubai, United Arab Emirates. Industry Briefings/Roundtable Discussions.
|  | One-on-One Business Appointments.
|  | Travel to Riyadh, Saudi Arabia.
Tuesday, March 11 | Riyadh, Saudi Arabia | Commercial Opportunity Overview. Country Team Briefing.
|  | Government Meetings.
|  | One-on-One Business Appointments.
|  | Networking Luncheon.
|  | Networking Reception.
Wednesday, March 12 | Riyadh, Saudi Arabia | One-on-One Business Appointments.
| Doha, Qatar | Travel to Doha, Qatar.
|  | Commercial Opportunity Overview.
|  | Country Team Briefing.
|  | One-on-One Business Appointments.
|  | Networking Reception.
Thursday, March 13 | Doha, Qatar | Government Meetings.
|  | One-on-One Business Appointments.
|  | Networking Luncheon.
|  | Wrap-up Discussion.
|  | Closing Dinner.

Participation Requirements

All parties interested in participating in the Secretarial Infrastructure Business Development Mission to the United Arab Emirates, the Kingdom of Saudi Arabia and Qatar must complete and submit an application package for consideration by the Department of Commerce. All applicants will be evaluated on their ability to meet certain conditions and best satisfy the selection criteria as outlined below. Approximately 20-25 companies will be selected to participate in the mission from the applicant pool. U.S. companies doing business with the United Arab Emirates, the Kingdom of Saudi Arabia and Qatar, as well as U.S. companies seeking to enter these markets for the first time may apply.

Fees and Expenses

After a company has been selected to participate on the mission, a payment to the Department of Commerce in the form of a participation fee is required. The fee schedule for the mission is below:

• $11,500 for large firms

• $9,000 for a small or medium-sized enterprises (SMEs) ¹

¹ An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

• $3000 each additional firm representative (large firm or SME)

Expenses for air travel, lodging, most meals, and incidentals will be the responsibility of each mission participant.

Conditions of Participation

An applicant must submit a completed and signed mission application and supplemental application materials, including adequate information on the company's products and/or services, primary market objectives, and goals for participation. If the Department of Commerce receives an incomplete application, the Department may reject the application, request additional information, or take the lack of information into account when evaluating the applications. Each applicant must also:

• Certify that the products and services it seeks to export through the mission are either produced in the United States, or, if not, marketed under the name of a U.S. firm and have at least 51% U.S. content. In cases where the U.S. content does not exceed 50%, especially where the applicant intends to pursue investment and major project opportunities, the following factors, may be considered in determining whether the applicant's participation in the business development mission is in the U.S. national interest:

○ U.S. materials and equipment content;

○ U.S. labor content;

○ Repatriation of profits to the U.S. economy; and

○ Potential for follow-on business that would benefit the U.S. economy.

• Certify that the export of the products and services that it wishes to export through the mission would be in compliance with U.S. export controls and regulations;

• Certify that it has identified to the Department of Commerce for its evaluation any business pending before the Department of Commerce that may present the appearance of a conflict of interest;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

Selection Criteria for Participation

Selection will be based on the following criteria, listed in decreasing order of importance:

• Suitability of a company's products or services to the target markets and the likelihood of a participating company's increased exports or business interests in the target markets as a result of this mission;

• Consistency of company's products or services with the scope and desired outcome of the mission's goals;

• Demonstrated export experience in the target markets and/or other foreign markets;

• Current or pending major project participation; and

• Rank/seniority of the designated company representative.

Additional factors, such as diversity of company size, type, location, and demographics, may also be considered during the review process.

Referrals from political organizations and any documents containing references to partisan political activities (including political contributions) will be removed from an applicant's submission and not considered during the selection process.

Timeframe for Recruitment and Applications

Mission recruitment will be conducted in an open and public manner, including publication in the Federal Register (http://www.gpoaccess.gov/fr), posting on ITA's business development mission calendar (http://export.gov/trademissions) and other Internet Web sites, press releases to general and trade media, direct mail, broadcast fax, notices by industry trade associations and other multiplier groups, and publicity at industry meetings, symposia, conferences, and trade shows.

Recruitment will begin immediately and conclude no later than January 17, 2014. Applications can be completed on-line at the GCC Infrastructure Business Development Mission Web site at http://www.export.gov/GCCMission2014 or can be obtained by contacting the U.S. Department of Commerce Office of Business Liaison (202-482-1360 or businessLiaison@doc.gov).

The application deadline is Friday, January 17, 2014. Completed applications should be submitted to the Office of Business Liaison. Applications received after Friday, January 17, 2014, will be considered only if space and scheduling constraints permit.

How to Apply

Applications can be downloaded from the business development mission Web site (http://export.gov/GCCMission2014) or can be obtained by contacting the Office of Business Liaison (see below). Completed applications should be submitted to the Office of Business Liaison via email: businessliaison@doc.gov or fax: 202-482-4054.

Contacts

General Information and Applications: The Office of Business Liaison, 1401 Constitution Avenue NW., Room 5062, Washington, DC 20230, Tel: 202-482-1360, Fax: 202-482-4054, Email: BusinessLiaison@doc.gov.

Elnora Moye,
Trade Program Assistant.

[FR Doc. 2013-30237 Filed 12-18-13; 8:45 am]

BILLING CODE 3510-DR-P